SMALL BUSINESS ADMINISTRATION

[Disaster Declaration #20333 and #20334; WEST VIRGINIA Disaster Number WV-20004]

Presidential Declaration Amendment of a Major Disaster for the State of West Virginia

AGENCY: U.S. Small Business Administration.

ACTION: Amendment 2.

SUMMARY: This is an amendment of the Presidential declaration of a major disaster for the State of West Virginia (FEMA-4787-DR), dated July 3, 2024.

DATES: Issued on August 27, 2024.

Physical Loan Application Deadline Date: November 2, 2024.

Economic Injury (EIDL) Loan Application Deadline Date: April 3, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of WEST VIRGINIA, dated July 3, 2024, is hereby amended to extend the deadline for filing applications for physical damages as a result of this disaster to November 2,2024.

Incident: Severe Storms, Flooding, Landslides, and Mudslides.

Incident Period: April 11, 2024 through April 12, 2024.

All other information in the original declaration remains unchanged.

(Catalog of Federal Domestic Assistance Number 59008)

Rafaela Monchek,
Deputy Associate Administrator, Office of Disaster Recovery & Resilience.

[FR Doc. 2024-19713 Filed 9-12-24; 8:45 am]

BILLING CODE 8026-09-P